GENERAL SERVICES ADMINISTRATION

Maximum Per Diem Rates for the Continental United States (CONUS)

AGENCY: Office of Governmentwide Policy, General Services Administration (GSA).

ACTION: Notice of Per Diem Bulletin 05-1, Fiscal Year (FY) 2005 continental United States (CONUS) per diem rates.

SUMMARY: An analysis of lodging data reveals that the FY 2005 maximum per diem rates for locations within the continental United States (CONUS) should be updated to provide for the reimbursement of Federal employees' expenses covered by per diem. Per Diem Bulletin 05-1 increases/decreases the maximum lodging amounts in existing per diem localities, increases the standard CONUS lodging amount from $55 to $60 (which results in the deletion of several existing per diem localities), and adds new per diem localities due to requests by Federal agencies. The per diems prescribed in Bulletin 05-1 may be found at http://www.gsa.gov/perdiem. In an effort to improve the ability of the per diem rates to meet the lodging demands of Federal travelers, the General Services Administration (GSA) has integrated average daily rate cost data obtained from lodging industry sources into the per diem rate-setting process. The use of such data in the per diem rate setting process enhances the Government's ability to obtain policy compliant lodging where it is needed. Bulletin 05-1 also contains a listing of pertinent information that must be submitted through an agency for GSA to restudy a location if a CONUS per diem rate is insufficient to meet necessary expenses.

DATES: This notice is effective October 1, 2004, and applies for travel performed on or after October 1, 2004.

FOR FURTHER INFORMATION CONTACT: For clarification of content, contact Adlore Chaudier, Office of Governmentwide Policy, Travel Management Policy, at (202) 501-3859. Please cite Notice of Per Diem Bulletin 05-1.

SUPPLEMENTARY INFORMATION:

A. Background

After an analysis of additional data, GSA has determined that current lodging rates for certain localities do not adequately reflect the lodging economics in those areas.

B.Change in standard procedure

GSA issues/publishes the CONUS per diem rates, formerly published in Appendix A to 41 CFR chapter 301, solely on the internet at http://www.gsa.gov/perdiem. This process, implemented in 2003, ensures more timely increases or decreases in per diem rates established by GSA for Federal employees on official travel within CONUS. Notices published periodically in the Federal Register, such as this one, now constitute the only notification of revisions in CONUS per diem rates to agencies.

Dated: August 25, 2004
John G. Sindelar,
Deputy Associate Administrator.

[FR Doc. 04-19826 Filed 8-30-04; 8:45 am]

BILLING CODE 6820-14-S